DEPARTMENT OF COMMERCE

National Oceanic and Atmospheric Administration

[I.D. 032404G]

Endangered Species; File No. 1444

AGENCY: National Marine Fisheries Service (NMFS), National Oceanic and Atmospheric Administration (NOAA), Commerce.

ACTION: Issuance of permit.

SUMMARY: Notice is hereby given that the U.S. Fish and Wildlife Service, Maryland Fisheries Resource Office, 177 Admiral Cochrane Drive, Annapolis, Maryland 21401 (Michael Mangold, principal investigator) has been issued a permit to take shortnose sturgeon (Acipenser brevirosturm) for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376; and,

Northeast Region, NMFS, One Blackburn Drive, Gloucester, MA 01930-2298; phone (978)281-9200; fax (978)281-9371.

FOR FURTHER INFORMATION CONTACT: Jennifer Jefferies or Tammy Adams, (301)713-2289.

SUPPLEMENTARY INFORMATION: On September 9, 2003, notice was published in the Federal Register(68 FR 53140) that a request for a scientific research permit to take shortnose sturgeon had been submitted by the above-named organization. The requested permit has been issued under the authority of the Endangered Species Act of 1973, as amended (ESA; 16 U.S.C. 1531 et seq. ) and the regulations governing the taking, importing, and exporting of endangered and threatened species (50 CFR parts 222-226).

USFWS will be authorized to sample and track shortnose sturgeon in the Potomac River. Annually, up to 50 fish will be taken via gill nets, measured, weighed, PIT tagged, tissue sampled, and the fish subsequently released. A subset of 20 fish annually will also be T-bar and CART tagged and have a temperature/depth datalogger attached. Additionally, the researchers will use D-traps to collect up to 2500 shortnose sturgeon eggs annually. This permit will be authorized for five years.

Issuance of this permit, as required by the ESA, was based on a finding that such permit (1) was applied for in good faith, (2) will not operate to the disadvantage of the endangered species which is the subject of this permit, and (3) is consistent with the purposes and policies set forth in section 2 of the ESA.

Dated: July 22, 2004.
Stephen L. Leathery,
Chief, Permits, Conservation and Education Division, Office of Protected Resources, National Marine Fisheries Service.

[FR Doc. 04-17185 Filed 7-27-04; 8:45 am]

BILLING CODE 3510-22-S